DEPARTMENT OF COMMERCE

National Oceanic and Atmospheric Administration

[RTID 0648-XD200]

New England Fishery Management Council; Public Meeting; Correction

AGENCY: National Marine Fisheries Service (NMFS), National Oceanic and Atmospheric Administration (NOAA), Commerce.

ACTION: Notice of correction of a public meeting.

SUMMARY: The New England Fishery Management Council (Council) is scheduling a public meeting of its Risk Policy Working Group (RPWG) to consider actions affecting New England fisheries in the exclusive economic zone (EEZ). This meeting will be held as a webinar. Recommendations from this group will be brought to the full Council for formal consideration and action, if appropriate.

DATES: This meeting will be held on Tuesday, August 22, 2023, at 9 a.m.

ADDRESSES: This meeting will be held as a webinar only. Webinar registration URL information: https://attendee.gotowebinar.com/register/7355629868155270240.

Council address: New England Fishery Management Council, 50 Water Street, Mill 2, Newburyport, MA 01950.

FOR FURTHER INFORMATION CONTACT: Thomas A. Nies, Executive Director, New England Fishery Management Council; telephone: (978) 465-0492.

SUPPLEMENTARY INFORMATION: The original notice published in the Federal Register on July 31, 2023 (88 FR 49451). The original notice announced that the meeting would be a hybrid in-person meeting as well as a webinar. This notice corrects the meeting to be a webinar meeting only. All other information previously published remains unchanged.

Special Accommodations

This meeting is physically accessible to people with disabilities. Requests for sign language interpretation or other auxiliary aids should be directed to Thomas A. Nies, Executive Director, at (978) 465-0492, at least 5 days prior to the meeting date.

Authority: 16 U.S.C. 1801 et seq.

Dated: August 3, 2023.
Rey Israel Marquez,
Acting Deputy Director, Office of Sustainable Fisheries, National Marine Fisheries Service.

[FR Doc. 2023-16963 Filed 8-7-23; 8:45 am]

BILLING CODE 3510-22-P